DEPARTMENT OF COMMERCE

International Trade Administration

[C-580-879]

Certain Corrosion-Resistant Steel Products From the Republic of Korea: Final Results of the Expedited First Sunset Review of the Countervailing Duty Order

AGENCY: Enforcement and Compliance, International Trade Administration, Department of Commerce.

SUMMARY: The Department of Commerce (Commerce) finds that revocation of the countervailing duty (CVD) order on certain corrosion-resistant steel products (CORE) from the Republic of Korea (Korea) would be likely to lead to the continuation or recurrence of a countervailable subsidy at the levels indicated in the “Final Results of Sunset Review” section of this notice.

DATES: Applicable October 1, 2021.

FOR FURTHER INFORMATION CONTACT: Josh Simonidis, AD/CVD Operations, Office VIII, Enforcement and Compliance, International Trade Administration, U.S. Department of Commerce, 1401 Constitution Avenue NW, Washington, DC 20230; telephone: (202) 482-0608.

SUPPLEMENTARY INFORMATION:

Background

On July 25, 2016, Commerce published in the Federal Register the CVD order on CORE from Korea.¹ On June 1, 2021, Commerce published the notice of initiation of the first sunset review of the CVD order on CORE from Korea, pursuant to section 751(c) of the Tariff Act of 1930, as amended (the Act).² Commerce received timely notices of intent to participate in this review from Cleveland-Cliffs Inc. (Cleveland-Cliffs) on June 14, 2021, and from United States Steel Corporation (U.S. Steel), California Steel Industries (CSI) and Steel Dynamics Inc. (SDI), and Nucor Corporation (Nucor) (collectively, domestic interested parties) on June 16, 2021, within the deadline specified in 19 CFR 351.218(d)(1)(i).³ The domestic interested parties claimed interested party status under section 771(9)(C) of the Act, as domestic producers of CORE. On July 1, 2021, Commerce received a complete substantive response for the review from the domestic interested parties within the 30-day deadline specified in 19 CFR 351.218(d)(3)(i).⁴

¹ See Certain Corrosion-Resistant Steel Products from India, Italy Republic of Korea and the People's Republic of China: Countervailing Duty Order, 81 FR 48387 (July 25, 2016) (Order).

² See Initiation of Five-Year (Sunset) Reviews, 86 FR 29239 (June 1, 2021).

³ See Cleveland-Cliffs's Letter, “Notice of Intent to Participate,” dated June 14, 2021; see also U.S. Steel's Letter, “Notice of Intent to Participate, dated June 16, 2021; CSI and SDI's Letter, “Notice of Intent to Participate in the Five Year-Review Review of the Countervailing Duty Order on Certain Corrosion-Resistant Steel Products from the Republic of Korea,” dated June 16, 2021; and Nucor's Letter, “Notice of Intent to Participate in Sunset Review,” dated June 16, 2021.

⁴ See Domestic Interested Parties' Letter, “Substantive Response to Notice of Initiation of Sunset Review,” dated July 1, 2021.

On July 22, 2021, Commerce notified the U.S. International Trade Commission that it did not receive an adequate substantive response from respondent interested parties.⁵ As a result, pursuant to 751(c)(3)(B) of the Act and 19 CFR 351.218(e)(1)(ii)(C)(2), Commerce conducted an expedited (120-day) sunset review of the CVD order on CORE from Korea.

⁵ See Commerce's Letter, “Sunset Reviews Initiated on June 1, 2021,” dated July 22, 2021.

Scope of the Order

The products covered by the Order are CORE. For a full description of the scope, see the Issues and Decision Memorandum.⁶

⁶ See Memorandum, “Issues and Decision Memorandum for the Final Results of the Expedited First Sunset Review of the Countervailing Duty Order on Certain Corrosion-Resistant Steel Products from the Republic of Korea,” dated concurrently with, and hereby adopted by, this notice (Issues and Decision Memorandum).

Analysis of Comments Received

A complete discussion of all issues raised in this sunset review, is provided in the Issues and Decision Memorandum. A list of the topics discussed in the Issues and Decision Memorandum is attached as an appendix to this notice.

The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://enforcement.trade.gov/frn/index.html.

Final Results of Sunset Review

Pursuant to sections 751(c)(1) and 752(b) of the Act, Commerce determines that revocation of the Order would be likely to lead to the continuation or recurrence of countervailable subsidies at the rates listed below:

Producer/exporter | Subsidy rate (percent)
Dongbu Steel Co., Ltd./Dongbu Incheon Steel Co., Ltd | 1.19
Union Steel Manufacturing Co. Ltd/Dongkuk Steel Mill Co., Ltd | * 0.72
All Others | 1.19
* (de minimis)

Notification Regarding Administrative Protective Order (APO)

This notice also serves as the only reminder to parties subject to an APO of their responsibility concerning the destruction of proprietary information disclosed under APO in accordance with 19 CFR 351.305. Timely written notification of the return or destruction of APO materials or conversion to judicial protective order is hereby requested. Failure to comply with the regulations and terms of an APO is a sanctionable violation.

Notification to Interested Parties

We are issuing and publishing these results in accordance with sections 751(c), 752(b), and 777(i)(1) of the Act, and 19 CFR 351.218.

Dated: September 27, 2021.
Christian Marsh,
Acting Assistant Secretary for Enforcement and Compliance.

Appendix

List of Issues Addressed in the Issues and Decision Memorandum

I. Summary

II. Background

III. Scope of the Order

IV. History of the Order

V. Legal Framework

VI. Discussion of the Issues

1. Likelihood of Continuation or Recurrence of a Countervailable Subsidy

2. Net Countervailable Subsidy Rates That Are Likely To Prevail

3. Nature of the Subsidies

VII. Final Results of Review

VIII. Recommendation

[FR Doc. 2021-21444 Filed 9-30-21; 8:45 am]

BILLING CODE 3510-DS-P